DEPARTMENT OF TRANSPORTATION

Federal Aviation Administration

14 CFR Part 39

[Docket No. 2003-NE-32-AD; Amendment 39-13285; AD 2003-17-10]

RIN 2120-AA64

Airworthiness Directives; McCauley Propeller Systems, Inc. Propeller Hub Models B5JFR36C1101, C5JFR36C1102, B5JFR36C1103, and C5JFR36C1104

AGENCY: Federal Aviation Administration (FAA), DOT.

ACTION: Final rule; request for comments.

SUMMARY: The FAA is superseding an existing airworthiness directive (AD) for McCauley Systems, Inc. propellers that are installed on, but not limited to, BAE Systems (Operations) Limited Jetstream Model 4101 airplanes. That AD currently requires a one-time fluorescent penetrant inspection (FPI) of propeller blade retention areas for cracks. This AD requires initial and repetitive FPI or Ultrasonic Inspection (UT) of propeller blade retention areas for cracks, replacement of high time propeller blades, and a one-time inspection of propeller hubs. This AD is prompted by four reports of significant cracks found in propeller blade shanks since the issuance of AD 2003-15-01. We are issuing this AD to prevent propeller blade failure or hub failure due to cracking, which could result in failure of the propeller and loss of control of the airplane.

DATES: Effective August 21, 2003. The Director of the Federal Register approved the incorporation by reference of certain publications listed in the regulations as of August 21, 2003.

We must receive any comments on this AD by October 20, 2003.

ADDRESSES: Use one of the following addresses to submit comments on this AD:

• By mail: Federal Aviation Administration (FAA), New England Region, Office of the Regional Counsel, Attention: Rules Docket No. 2003-NE-32-AD, 12 New England Executive Park, Burlington, MA 01803-5299.

• By fax: (781) 238-7055.

• By e-mail: 9-ane-adcomment@faa.gov.

You can get the service information referenced in this AD from McCauley Propeller Systems, 3535 McCauley Drive, Vandalia, OH 45377.

You may examine the AD docket by appointment, at the FAA, New England Region, Office of the Regional Counsel, 12 New England Executive Park, Burlington, MA. You may examine the service information at the FAA, New England Region, Office of the Regional Counsel, 12 New England Executive Park, Burlington, MA; or at the Office of the Federal Register, 800 North Capitol Street, NW., suite 700, Washington, DC.

FOR FURTHER INFORMATION CONTACT: Timothy Smyth, Aerospace Engineer, Chicago Aircraft Certification Office, FAA, Small Airplane Directorate, 2300 East Devon Avenue, Room 107, Des Plaines, IL 60018; telephone: (847) 294-7132; fax: (847) 294-7834.

SUPPLEMENTARY INFORMATION: On July 14, 2003, the FAA issued AD 2003-15-01, Amendment 39-13243 (68 FR 42244, July 17, 2003). That AD applies to the following McCauley Systems, Inc. propeller assemblies that are installed on, but not limited to, BAE Systems (Operations) Limited Jetstream Model 4101 airplanes:

• Hub Model B5JFR36C1101, with Model 114GC series propeller blades.

• Hub Model C5JFR36C1102, with Model L114GC series propeller blades.

• Hub Model B5JFR36C1103, with Model 114HC series propeller blades.

• Hub Model C5JFR36C1104, with Model L114HC series propeller blades.

That AD requires a one-time FPI of propeller blade retention areas for cracks. That AD was prompted by a report of a significant crack in a propeller blade shank and two reports of cracks in the hubs of the same propeller model. That condition, if not corrected, could result in a failure of the propeller blade or hub and loss of control of the airplane.

Actions Since AD 2003-15-01 Was Issued

Since that AD was issued, four additional propeller blade cracks have been reported. Based on examination of these cracked propeller blades, a repetitive inspection interval has been established.

Relevant Service Information

We have reviewed and approved the technical contents of McCauley Alert Service Bulletin (ASB) 246C, Revision 3, dated August 12, 2003, that describes procedures for FPI or UT of propeller blades. We have also reviewed and approved the technical contents of McCauley ASB245A, Revision 1, dated August 13, 2003, that describes procedures for a one-time eddy current inspection of propeller hubs.

Differences Between This AD and the Service Information

McCauley ASB246C, Revision 3, dated August 12, 2003, requires the operator to perform a blade shake check at 72-hour internals. This AD does not require the blade shake check. McCauley ASB245 A, Revision 1, dated August 13, 2003, requires initial and repetitive hub inspections. This AD does not require repetitive hub inspections, but does require a different compliance internal.

FAA's Determination and Requirements of This AD

The unsafe condition described previously is likely to exist or develop on other McCauley Systems, Inc. propeller hub Models B5JFR36C1101, C5JFR36C1102, B5JFR36C1103, and C5JFR36C1104, of the same type design. We are issuing this AD to prevent propeller blade failure or hub failure due to cracking, which could result in failure of the propeller and loss of control of the airplane. You must use the service information described previously to perform these actions.

FAA's Determination of the Effective Date

Since an unsafe condition exists that requires the immediate adoption of this AD, we have found that notice and opportunity for public comment before issuing this AD are impracticable, and that good cause exists for making this amendment effective in less than 30 days.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Interim Action

These actions are interim actions and we may take further rulemaking actions in the future.

Comments Invited

This AD is a final rule that involves requirements affecting flight safety and was not preceded by notice and an opportunity for public comment; however, we invite you to submit any written relevant data, views, arguments regarding this AD. Send your comments to an address listed under ADDRESSES. Include “AD Docket No. 2003-NE-32-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary on the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-32-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-17-10 McCauley Propeller Systems, Inc.: Amendment 39-13285. Docket No. 2003-NE-32-AD.

Effective Date

(a) This airworthiness directive (AD) becomes effective August 21, 2003.

Affected ADs

(b) This AD supersedes AD 2003-15-01, Amendment 39-13243.

Applicability

(c) This AD applies to McCauley Propeller Systems, Inc. propeller hub models that are listed in Table 1 of this AD, and are installed on, but not limited to, BAE Systems (Operations) Limited Jetstream Model 4101 airplanes. Table 1 follows:

Table 1.—Propeller Models by Hub Model and Blade Model
Propeller hub model | With propeller blade model installed
B5JFR36C1101 | 114GC series.
C5JFR36C1102 | L114GC series.
B5JFR36C1103 | 114HC series.
C5JFR36C1104 | L114HC series.

Unsafe Condition

(d) This AD is prompted by four reports of significant cracks found in propeller blade shanks since the issuance of AD 2003-15-01. We are issuing this AD to prevent propeller blade failure or hub failure due to cracking, which could result in failure of the propeller and loss of control of the airplane.

Compliance

(e) You are responsible for having the actions required by this AD performed within the compliance times specified unless the actions have already been done.

Initial Inspection of Propeller Blades

(f) Inspect propeller blades for cracks in the retention area using either the fluorescent penetrant inspection (FPI) procedure specified in paragraphs 5.A. through 5.L. of McCauley Alert Service Bulletin (ASB) 246C, Revision 3, dated August 12, 2003, or using the ultrasonic inspection (UT) procedure specified in paragraphs 6.A. through 6.F. of McCauley ASB246C, Revision 3, dated August 12, 2003. Use the compliance times specified in the following Table 2:

Table 2.—Compliance Times for the Initial FPI or UT of Propeller Blades
If the propeller blade time-since-new (TSN) is: | Or if: | Then inspect:
(1) 10,000 hours TSN or more | The blade was overhauled at least twice | Within 10 hours time-in-service (TIS) after the effective date of this AD.
(2) 6,000 hours TSN or more | The blade was overhauled at least once | Within 200 hours TIS after the effective date of this AD or at 10,010 hours TIS whichever is later.
(3) Fewer than 6,000 hours TSN | The blade has not been overhauled | At the next overhaul.

Credit for Previous Inspection

(g) The one-time inspections done using AD 2003-15-01, published July 17, 2003, constitute compliance with the initial inspection requirements of this AD.

Repetitive Inspection of Propeller Blades

(h) For blades that have 10,000 hours or more TSN or that have been overhauled at least twice, inspect propeller blades for cracks in the retention area using either the FPI procedure specified in paragraphs 5.A. through 5.L. of McCauley ASB246C, Revision 3, dated August 12, 2003, or using the UT procedure specified in paragraphs 6.A. through 6.F. of McCauley ASB ASB246C, Revision 3, dated August 12, 2003, at the following intervals:

(1) Inspect within 100 hours TIS after the initial inspection, or within 10 hours TIS after the effective date of this AD, whichever is later.

(2) Thereafter, repetitively inspect within every 100 hours TIS, for a maximum of five repetitive inspections.

(i) The repetitive inspection of paragraph (h) of this AD applies when the blade reaches 10,000 hours TIS.

Blade Replacement

(j) Replace propeller blades as follows:

(1) Remove from service blades with cracks.

(2) For blades that pass all of the repetitive inspections in paragraph (h)(2) of this AD, replace with blades that have never been overhauled, within 100 hours TIS after the fifth repetitive inspection.

Eddy Current Inspection (ECI) of Propeller Hubs

(k) For propeller hubs that have been overhauled one or more times, perform a one-time ECI of the propeller hub, within 300 hours TIS after the effective date of this AD. Use the procedures specified in the Accomplishment Instructions of McCauley ASB245A, Revision 1, dated August 13, 2003.

(l) Remove hubs with crack indications from service.

Reporting Requirements

(m) Report findings of the FPI or UT using the procedures specified in paragraph 7. of McCauley ASB246C, Revision 3, dated August 12, 2003. Report the finding of the hub inspection using the procedures specified in paragraph 5.H.(5) of ASB245A, Revision 1, dated August 13, 2003. The Office of Management and Budget (OMB) has approved the reporting requirements specified in paragraph 7. of McCauley ASB246C, Revision 3, dated August 12, 2003, and reporting requirements specified in paragraph 5.H.(5) of ASB245A, Revision 1, dated August 13, 2003, 2003, and assigned OMB control number 2120-0056.

Alternative Methods of Compliance (AMOCs)

(n) You must request AMOCs as specified in 14 CFR 39.19. All AMOCs must be approved by the manager, Chicago Aircraft Certification Office, FAA, 2300 East Devon Avenue, Room 1007, Des Plaines, IL 60018.

Material Incorporated by Reference

(o) You must use the service information specified in Table 3 to perform the inspections required by this AD. The Director of the Federal Register approved the incorporation by reference of the documents listed in Table 3 of this AD in accordance with 5 U.S.C. 552(a) and 1 CFR part 51. You can get a copy from McCauley Propeller Systems, 3535 McCauley Drive, Vandalia, OH 45377. You may review copies at the FAA, New England Region, Office of the Regional Counsel, 12 New England Executive Park, Burlington, MA; or at the Office of the Federal Register, 800 North Capitol Street, NW., suite 700, Washington, DC. Table 3 follows:

Table 2.—Incorporation by Reference
Service Bulletin No. | Page | Revision | Date
McCauley, ASB245A | ALL | 1 | August 13, 2003.
Total Pages: 12.
McCauley, ASB246C | ALL | 3 | August 12, 2003.
Total Pages: 27.

Related Information

(p) None.

Issued in Burlington, Massachusetts, on August 18, 2003.
Francis A. Favara,
Acting Manager, Engine and Propeller Directorate, Aircraft Certification Service.

[FR Doc. 03-21519 Filed 8-19-03; 2:45 pm]

BILLING CODE 4910-13-P